DEPARTMENT OF TRANSPORTATION

Federal Aviation Administration

14 CFR Part 97

[Docket No. 29926; Amdt. No. 1975]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination

1. FAA Rules Docket, FAA Headquarters Building, 800 Independence Avenue, SW., Washington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a ``significant regulatory action'' under Executive Order 12866; (2) is not a ``significant rule'' under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on February 18, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§ § 97.23, 97.25, 97.27, 97.29, 97.31, 97.33 and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective March 23, 2000

Blanding, UT, Blanding Muni, NDB RWY 35, Amdt 7, CANCELLED

* * * Effective April 20, 2000

Birmingham, AL, Birmingham Intl, NDB OR GPS RWY 6, Amdt 30B

Birmingham, AL, Birmingham Intl, NDB RWY 24, Amdt 16B

Birmingham, AL, Birmingham, Intl, GPS RWY 36, Orig-A

Dillingham, AK, Dillingham, VOR/DME RWY 19, Amdt 5A

Dillingham, AK, Dillingham, LOC/DME RWY 19, Amdt 4A

Kotzebue, AK, Ralph Wien Memorial, GPS RWY 26, Orig-A

Nome, AK, Nome, VOR/DME BC RWY 9, Amdt 1A

Nome, AK, Nome, VOR RWY 27, Amdt 1A

Nome, AK, Nome, LOC/DME RWY 9, Amdt 1A

Nome, AK, Nome, NDB RWY 27, Amdt 1A

Nome, AK, Nome, GPS RWY 2, Orig-B

Nome, AK, Nome, GPS RWY 9, Orig-B

Nome, AK, Nome, GPS RWY 27, Orig-B

Yakutat, AK, Yakutat, GPS RWY 2, Orig-A

Yakutat, AK, Yakutat, GPS RWY 11, Orig-A

Yakutat, AK, Yakutat, GPS RWY 29, Orig-A

Little Rock, AR, Adams Field, GPSs RWY 18, Orig-B

Texarkana, AR, Texarkana Regional-Webb Field, VOR OR GPS RWY 13, Amdt 15A

Texarkana, AR, Texarkana Regional-Webb Field, GPS RWY 4, Orig-A

Texarkana, AR, Texarkana Regional-Webb Field, GPS RWY 22, Orig-A

Texarkana, AR, Texarkana Regional-Webb Field, GPS RWY 31, Orig-A

Payson, AZ, Payson, GPS-A, Orig

Concord, CA, Buchanan Field, GPS RWY 19R, Orig

Concord, CA, Buchanan Field, NDB RWY 19R, Amdt 1

Fresno, CA, Fresno Yosemite Intl, GPS RWY 11L, Orig

Fresno, CA, Fresno Yosemite Intl, GPS RWY 29R, Orig

Los Banos, CA, Los Banos Muni, VOR/DME OR GPS RWY 14, Amdt 4

Denver, CO, Centennial, ILS RWY 35R, Amdt 8

Denver, CO, Centennial, CDB RWY 35R, Amdt 10

Denver, CO, Centennial, VOR/DME RNAV RWY 28, Amdt 1

Apalachicola, FL, Apalachicola Muni, NDB RWY 13, Amdt 1

Apalachicola, FL, Apalachicola Muni, NDB RWY 31, Amdt 1

Fort Lauderdale, FL, Fort Lauderdale-Hollywood Intl, LOC RWY 9R, Amdt 4

Fort Lauderdale, FL, Fort Lauderdale-Hollywood Intl, VOR OR GPS RWY 27R, Amdt 11

Fort Lauderdale, FL, Fort Lauderdale-Hollywood Intl, NDB OR GPS RWY 13, Amdt 15

Fort Lauderdale, FL, Fort Lauderdale-Hollywood Intl, LOC RWY 13, Amdt 1

Fort Lauderdale, FL, Fort Lauderdale-Hollywood Intl, ILS RWY 9L, Amdt 18

Fort Lauderdale, FL, Fort Lauderdale-Hollywood Intl, ILS RWY 27R, Amdt 6

Fort Lauderdale, FL, Fort Lauderdale-Hollywood Intl, RADAR-1, Amdt 4

Kosrae Island, FM, Kosrae, GPS RWY 5, Amdt 1

Kosrae Island, FM, Kosrae, GPS RWY 23, Amdt 1

Pohnpei Island, FM, Pohnpei International, GPS RWY 9, Amdt 1

Pohnpei Island, FM, Pohnpei International, GPS RWY 27, Amdt 1

Columbus, GA, Columbus Metropolitan, NDB OR GPS RWY 5, Amdt 27A

Cordele, GA, Crisp County-Cordele, VOR/DME OR GPS RWY 23, Amdt 10B

Cordele, GA, Crisp County-Cordele, LOC RWY 10, Orig-B

Cordele, GA, Crisp County-Cordele, NDB OR GPS RWY 10, Amdt 4B

Greenville, IL, Greenville, NDB RWY 18, Amdt 4, CANCELLED

Elkhart, IN, Elkhart Muni, VOR OR GPS RWY 9, Amdt 5A

Fort Wayne, IN, Fort Wayne International, LOC BCC RWY 14, Amdt 13A

Fort Wayne, IN, Fort Wayne International, NDB OR GPS RWY 32, Amdt 25A

Gary, IN, Gary/Chicago, NDB OR GPS RWY 30, Amdt 7A

Indianapolis, IN, Indianapolis Intl, NDB RWY 5L, Orig-B

Indianapolis, IN, Indianapolis Intl, NDB OR GPS RWY 5R, Amdt 1B

Indianapolis, IN, Indianapolis Intl, NDB OR GPS RWY 23L, Amdt 1B

Indianapolis, IN, Indianapolis Intl, NDB OR GPS RWY 32, Amdt 14B

Indianapolis, IN, Mount Comfort, VOR OR GPS RWY 34, Amdt 1A

Muncie, IN, Delaware County-Johnson Field, VOR OR GPS RWY 32, Amdt 14A

Muncie, IN, Delaware County-Johnson Field, NDB RWY 32, Amdt 12A

Ankeny, IA, Ankeny Regional, VOR/DME RWY 36, Orig

Burlington, IA, Burlington Regional, NDB OR GPS RWY 36, Amdt 8C

Cedar Rapids, IA, The Eastern Iowa, VOR OR GPS RWY 9, Amdt 16A

Cedar Rapids, IA, The Eastern Iowa, VOR OR GPS RWY 27, Amdt 11A

Cedar Rapids, IA, The Eastern Iowa, NDB RWY 9, Amdt 11A

Cedar Rapids, IA, The Eastern Iowa, GPS RWY 13, Orig-A

Cedar Rapids, IA, The Eastern Iowa, GPS RWY 31, Orig-B

Clinton, IA, Clinton Muni, VOR/DME RWY 21, Amdt 9A

Clinton, IA, Clinton Muni, NDB RWY 3, Amdt 6A

Clinton, IA, Clinton Muni, GPS RWY 14, Amdt 1A

Clinton, IA, Clinton Muni, GPS RWY 21, Amdt 1A

Clinton, IA, Clinton Muni, GPS RWY 32, Amdt 1A

Des Moines, IA, Des Moines Intl, VOR OR GPS RWY 23, Amdt 2A

Des Moines, IA, Des Moines Intl, LOC RWY 5, Amdt 1A

Dubuque, IA Dubuque Regional, VOR OR GPS RWY 13, Amdt 9

Dubuque, IA Dubuque Regional, LOC/DME BC RWY 13, Amdt 5

Fort Dodge, IA, Fort Dodge Regional, VOR OR GPS RWY 12, Amdt 14B

Fort Dodge, IA, Fort Dodge Regional, VOR/DME OR GPS RWY 30, Amdt 9B

Ottumwa, IA, Ottumwa Industrial, VOR/DME OR GPS RWY 13, Amdt 6B

Ottumwa, IA, Ottumwa Industrial, LOC/DME BC RWY 13, Amdt 2B

Waterloo, IA, Waterloo Muni, VOR RWY 18, Amdt 8

Waterloo, IA, Waterloo Muni, VOR RWY 24, Amdt 16

Waterloo, IA, Waterloo Muni, VOR RWY 36, Amdt 17

Waterloo, IA, Waterloo Muni, LOC BC RWY 30, Amdt 10

Olathe, KS, New Century Aircenter, VOR-A, Amdt 5

Olathe, KS, New Century Aircenter, NDB RWY 35, Amdt 5

Olathe, KS, New Century Aircenter, ILS RWY 35, Amdt 5

Olathe, KS, New Century Aircenter, RNAV RWY 17, Orig

Olathe, KS, New Century Aircenter, RNAV RWY 35, Orig

Bardstown, KY, Samuels Field, GPS RWY 20, Amdt 1

Covington/Cincinnati, OH, KY, Cincinnati/Northern Kentucky Intl, NDB OR GPS RWY 9, Amdt 14A

Louisville, KY, Louisville Intl-Standiford Field, GPS RWY 35L, Orig-A

Lousiville, KY, Louisville Intl-Standiford Field, GPS RWY 35R, Orig-A

Alexandria LA, Alexandria Esler Regional, LOC BCc RWY 8, Amdt 10C

Alexandria LA, Alexandria Esler Regional, GPS RWY 18, Orig-C

Baton Rouge, LA, Baton Rouge Metropolitan/Ryan Field, LOC BC RWY 4L, Amdt 6B

Baton Rouge, LA, Baton Rouge Metropolitan/Ryan Field, GPS RWY 31, Orig-A

Bogalusa, LA, George R. Carr Memorial Air Field, LOC RWY 18, Amdt 1A

Bogalusa, LA, George R. Carr Memorial Air Field, NDB OR GPS RWY 18, Amdt 3A

De Ridder LA, Beauregard Parish, LOC RWY 36, Amdt 1A

De Ridder LA, Beauregard Parish, NDB OR GPS RWY 36, Amdt 3A

Eunice, LA, Eunice, GPS RWY 34, Orig-A

Lafayette, LA, Lafayette Regional, GPS RWY 29, Orig-A

Lake Charles, LA, Lake Charles Regional, VOR/DME RNAV OR GPS RWY 5, Amdt 3A

Lake Charles, LA, Lake Charles Regional, VOR/DME RNAV OR GPS RWY 23, Amdt 3B

Lake Charles, LA, Lake Charles Regional, GPS RWY 5, Orig

Lake Charles, LA, Lake Charles Regional, GPS RWY 23, Orig

Natchitoches, LA, Natchitoches Regional, LOC RWY 34, Amdt 3A

Natchitoches, LA, Natchitoches Regional, NDB OR GPS RWY 34, Amdt 4A

New Orleans, LA, New Orleans Intl (Moisant Field), LOC RWY 19, Orig-B

New Orleans, LA, New Orleans Intl (Moisant Field), NDB RWY 10, Amdt 26B

New Orleans, LA, New Orleans Intl (Moisant Field), GPS RWY 1, Orig-A

New Orleans, LA, New Orleans Intl (Moisant Field), GPS RWY 10, Orig-A

New Orleans, LA, New Orleans Intl (Moisant Field), GPS RWY 19, Orig-A

New Orleans, LA, New Orleans Intl (Moisant Field), GPS RWY 28, Orig-A

Tallulah, LA, Vicksburg/Tallulah Regional, LOC RWY 36, Orig-C

Tallulah, LA, Vicksburg/Tallulah Regional, NDB OR GPS RWY 36, Orig-C

Auburn-Lewiston, ME, Auburn-Lewiston Muni, NDB OR GPS RWY 4, Amdt 10A

Bangor, ME, Bangor Intl, NDB RWY 33, Amdt 5A

Portland, ME, Portland Intl Jetport, NDB OR GPS RWY 11, Amdt 15A

Presque Isle, ME, Northern Maine Regional Arpt at Presque Isle, VOR/DME RWY 1 Amdt 12A

Rockland ME, Knox County Regional, GPS RWY 31, Orig-A

Leonardtown, MD, St. Mary's County, GPS RWY 11, Amdt 1

Leonardtown, MD, St. Mary's County, VOR OR GPS RWY 29, Amdt 6

Detroit, MI, Detroit Metropolitan Wayne County, NDB OR GPS RWY 3L, Admt 10B

Lansing, MI, Capital City, VOR OR GPS RWY 24, Amdt 8A

Bemidji, MN, Bemidji-Beltrami County, VOR OR GPS RWY 13, Amdt 16B

Bemidji, MN, Bemidji-Beltrami County, VOR/DME OR TACAN OR GPS RWY 31, Amdt 12B

Bemidji, MN, Bemidji-Beltrami County, NDB RWY 31, Amdt 5B

Picayune, MS, Picayune Pearl River County, VOR OR GPS-A, Amdt 11A, CANCELLED

Fredericktown, MO, Fredericktown Regional, VOR/DME RWY 1, Admt 3

Fredericktown, MO, Fredericktown Regional, VOR RWY 19, Admt 1

Fredericktown, MO, Fredericktown Regional, RNAV RWY 1, Orig

Fredericktown, MO, Fredericktown Regional, RNAV RWY 19, Orig

Kansas City, MO, Richards-Gebaur Memorial, VOR/DME-A, Orig, CANCELLED

Kansas City, MO, Richards-Gebaur Memorial, NDB RWY 1, Orig-A, CANCELLED

Kansas City, MO, Richards-Gebaur Memorial, ILS RWY 1, Amdt 5A, CANCELLED

Kansas City, MO, Richards-Gebaur Memorial, GPS RWY 1, Orig-A, CANCELLED

Kansas City, MO, Richards-Gebaur Memorial, GPS RWY 19, Orig. CANCELLED

Saipan Island, MO, Saipan Intl, GPS RWY 25, Amdt 1

Great Falls, MT, Great Falls Intl, GPS RWY 3, Orig

Great Falls, MT, Great Falls Intl, GPS RWY 21, Orig

Great Falls, MT, Great Falls Intl, GPS RWY 34, Orig

Concord, NH, Concord Muni, NDB OR GPS RWY 35, Amdt 5A

Laconia, NH, Laconia Muni, GPS RWY 26, Orig-A

Portsmouth, NH, Pease International Tradeport, GPS RWY 16, Amdt 1A

Binghampton, NY, Binghampton Regional/Edwin A. Link Field, VOR/DME OR GPS RWY 28, Amdt 9B

Binghampton, NY, Binghampton Regional/Edwin A. Link Field, NDB OR GPS RWY 34, Amdt 17B

Buffalo, NY, Buffalo Niagara Intl, NDB OR GPS RWY 5, Admt 10B

Buffalo, NY, Buffalo Niagara Intl, NDB RWY 23, Admt 15B

Elmira, NY, Elmira/Corning Regional, NDB, RWY 24, Amdt 14A

Fulton, NY, Oswego County, GPS RWY 24, Orig-A

Hornell, NY, Hornell Muni, GPS RWY 18, Orig-A

Hornell, NY, Hornell Muni, GPS RWY 36, Orig-A

Hudson, NY, Columbia County, GPS RWY 3, Amdt 1A

Hudson, NY, Columbia County, GPS RWY 21, Orig-A

Massena, NY, Massena Intl—Richards Field, VOR/DME RNAV OR GPS RWY 5, Amdt 5A

New York, NY, John F. Kennedy Intl, VOR/DME OR GPS RWY 22L, Amdt 4C

New York, NY, LaGuardia, VOR RWY 4, Amdt 2B

New York, NY, LaGuardia, LDA-A, Amdt 2A

New York, NY, LaGuardia, NDB OR GPS RWY 22, Amdt 12A

Newburg, NY, Stewart Intl, NDB OR PS RWY 9, Amdt 8A

Poughkeepsie, NY, Dutchess County, VOR/DME RWY 6, Amdt 5C

Rochester, NY, Greater Rochester Intl, NDB OR GPS RWY 28, Admt 20B

Schenectady, NY, Schenectady County, NDB RWY 28, Amdt 10B

Schenectady, NY, Schenectady County, GPS RWY 22, Orig-B

Schenectady, NY, Schenectady County, GPS RWY 28, Orig-B

Syracuse, NY, Syracuse Hancock Intl, VOR OR TACAN RWY 33, Orig-D

Syracuse, NY, Syracuse Hancock Intl, NDB RWY 28, Amdt 28B

Syracuse, NY, Syracuse Hancock Intl, GPS RWY 10, Orig-B

Utica, NY, Oneida County, NDB OR GPS RWY 15, Amdt 9C

White Plains, NY, Westchester County, VOR/DME RNAV RWY 34, Admt 6A

Fayetteville, NC, Fayetteville Regional/Grannis Field, LOC BC RWY 22, Amdt 5B

Greensboro, NC, May, VOR/DME OR GPS-A, Admt 3, CANCELLED

Greensboro, NC, Piedmont Triad International, VOR OR GPS RWY 5, Amdt 12B

Greensboro, NC, Piedmont Triad International, NDB OR GPS RWY 14, Amdt 15C

Hatteras, NC, Billy Mitchell, GPS RWY 25, Amdt 2

Kingston, NC, Kingston Regional Jetport at Stallings Fld, VOR OR GPS RWY 23, Amdt 13

Kingston, NC, Kingston Regional Jetport at Stallings Fld, VOR/DME OR GPS RWY 5, Amdt 12, CANCELLED

Kingston, NC, Kingston Regional Jetport at Stallings Fld, MDB RWY 5, Amdt 11

Kingston, NC, Kingston Regional Jetport at Stallings Fld, ILS RWY 5, Amdt 10

Kingston, NC, Kingston Regional Jetport at Stallings Fld, RNAV RWY 5, Orig

Hazen, ND, Mercer County Regional, NDB RWY 32, Orig, CANCELLED

Toledo, OH, Toledo Express, VOR/DME RNAV OR GPS RWY 16, Amdt 5A

Toledo, OH, Toledo Express, NDB OR GPS RWY 7, Amdt 24A

Oklahoma City, OK, Will Rogers World, LOC BC RWY 35L, Amdt 10C

Tulsa, OK, Tulsa Intl, VOR/DME OR TACAN RWY 8, Amdt 3C

Allentown, PA, Lehigh Valley Intl. NDB OR GPS RWY 6, Amdt 17A

Altoona, PA, Altoona-Blair County, GPS RWY 2, Orig-A

Harrisburg, PA, Capital GPS RWY 26, Orig-A

Harrisburg, PA, Harrisburg International, ILS RWY 13, Amdt 1

Harrisburg, PA, Harrisburg International, ILS RWY 31, Amdt 1

Harrisburg, PA, Harrisburg International, COPTER ILS 128, Orig

Harrisburg, PA, Harrisburg International, COPTER ILS 308, Orig

Latrobe, PA, Arnold Palmer Regional, NDB RWY 23, Amdt 13A

Philadelphia, PA, Northeast Philadelphia, VOR OR GPS RWY 6, Amdt 10A

Reading, PA, Reading Regional/Carl A. Spaatz Field, NDB RWY 36, Amdt 24A

Reading, PA, Reading Regional/Carl A. Spaatz Field, GPS RWY 13, Orig-A

Reading, PA, Reading Regional/Carl A. Spaatz Field, GPS RWY 18, Orig-A

Reedsville, PA, Mifflin County, GPS RWY 24, Orig-A

Miller, SD, Miller Muni, NDB RWY 15, Orig, CANCELLED

Tretnon, TN, Gibson County, NDB or GPS RWY 19, Amdt 4

Abilene, TX, Abilene Regional, NDB RWY 35 R, Amdt 5B

Abilene, TX, Abilene Regional, GPS RWY 17L, Orig-A

Abilene, TX, Abilene Regional, GPS RWY 35R, Orig-A

Amarillo, TX, Amarillo Intl, VOR/DME RWY 31, Orig-A

Amarillo, TX, Amarillo Intl, GPS RWY 13, Orig-A

Amarillo, TX, Amarillo Intl, GPS RWY 31, Orig-A

Amarillo, TX, Tradewind, VOR/DME RNAV RWY 35, Orig-A

Amarillo, TX, Tradewind, GPS RWY 35, Orig-A

Beaumont-Port Arthur, TX, Southeast Texas Regional, VOR/DME RWY 34, Amdt 7B

Beaumont-Port Arthur, TX, Southeast Texas Regional, LOC BC RWY 30, Amdt 19A

Beaumont-Port Arthur, TX, Southeast Texas Regional, GPS RWY 34, Orig-B

Brownsville, TX, Brownsville/South Padre Island Intl, LOC BC RWY 31L, Amdt 11A

College Station, TX, Easterwood Field, VOR OR TACAN RWY 10, Amdt 18C

College Station, TX, Easterwood Field, LOC BC RWY 16, Amdt 5B

El Paso, TX, El Paso Intl, LOC/DME RWY 4, Amdt 2A

El Paso, TX, El Paso Intl, VOR RWY 26L, Amdt 29C

El Paso, TX, El Paso Intl, NDB RWY 22, Amdt 28B

Greenville, TX, Majors, VOR/DME RWY 17, Orig-A

Greenville, TX, Majors, NDB OR GPS RWY 35, Amdt 1A

Houston, TX, David Wayne Hooks Memorial, VOR/DME RNAV OR GPS RWY 17R, Amdt 3A

Houston, TX, David Wayne Hooks Memorial, VOR/DME RNAV OR GPS RWY 35L, Amdt 3A

Houston, TX, Ellington Field, GPS RWY 4, Orig-A

Houston, TX, William P. Hobby, VOR/DME RWY 17, Amdt 1B

Houston, TX, William P. Hobby, VOR/DME RWY 22, Amdt 24A

Houston, TX, William P. Hobby, VOR/DME RWY 30L, Amdt 16A

Houston, TX, William P. Hobby, VOR/DME RWY 35, Amdt 2A

Houston, TX, William P. Hobby, LOC RWY 22, Orig

Longview, TX, Gregg County, VOR/DME RNAV RWY 22, Amdt 6A

Lubbock, TX, Lubbock Intl, VOR/DME RNAV RWY 8, Amdt 2A

Lubbock, TX, Lubbock Intl, NDB RWY 17R, Amdt 15A

Lubbock, TX, Lubbock Intl, NDB RWY 26, Amdt 2A

Lubbock, TX, Lubbock Intl, GPS RWY 8, Orig-A

Lubbock, TX, Lubbock Intl, GPS RWY 35L, Orig-A

McAllen, TX, McAllen Miller Intl, LOC BC RWY 31, Amdt 9B

McAllen, TX, McAllen Miller Intl, VOR RWY 31, Amdt 1A

McAllen, TX, McAllen Miller Intl, GPS RWY 31, Orig-A

Midland, TX, Midland Intl, VOR OR TACAN RWY 16R, Amdt 22B

Paris, TX, Cox Field, VOR OR GPS RWY 35, Amdt 1A

San Angelo, TX, San Angelo Regional/Mathis Field, NDB RWY 3, Amdt 14A

San Angelo, TX, San Angelo Regional/Mathis Field, VOR RWY 21, Amdt 16A

Victoria, TX, Victoria Regional, VOR/DME OR GPS RWY 30R, Amdt 5A

Waco, TX, Waco Regional, VOR OR GPS RWY 14, Amdt 22A

Rutland, VT, Rutland State, GPS RWY 19, Amdt 2A

Lewisburg, WV, Greenbrier Valley, GPS RWY 4, Amdt 1A

Petersburg, WV, Grant County, GPS RWY 31, Amdt 1

Petersburg, WV, Grant County, LDA/DME-B, Amdt 3

Petersburg, WV, Grant County, VOR/DME OR GPA-A, Amdt 2

Effective June 15, 2000

Stigler, OK, Stigler Muni, GPS RWY 17, Orig

Stigler, OK, Stigler Muni, GPS RWY 35, Orig

[FR Doc. 00-4487 Filed 2-24-00; 8:45 am]

BILLING CODE 4910-13-M